DEPARTMENT OF TRANSPORTATION

Office of the Secretary

Aviation Proceedings, Agreements Filed During the Week Ending August 2, 2002

The following Agreements were filed with the Department of Transportation under the provisions of 49 U.S.C. sections 412 and 414. Answers may be filed within 21 days after the filing of the application.

Docket Number: OST-2002-13005.

Date Filed: July 31, 2002.

Parties: Members of the International Air Transport Association.

Subject:

PTC2 ME 0108 dated 5 July 2002

TC2 Within Middle East Resolutions r1-r14

Minutes—PTC2 ME 0109 dated 30 July 2002

Tables—PTC2 ME FARES 0038 (RE-ISSUE) dated 9 July 2002

Intended effective date: 1 January 2003

Docket Number: OST-2002-13006.

Date Filed: July 31, 2002.

Parties: Members of the International Air Transport Association.

Subject:

PTC Comp 0946 dated 30 July 2002

Composite Expedited Resolution 024d

Intended effective date: 1 September 2002.

Docket Number: OST-2002-13007.

Date Filed: July 31, 2002.

Parties: Members of the International Air Transport Association.

Subject:

PTC COMP 0947 dated 30 July 2002

Composite Expedited Resolution 210

Intended effective date: 1 October 2002

Docket Number: OST-2002-13008.

Date Filed: July 31, 2002.

Parties: Members of the International Air Transport Association.

Subject:

PTC COMP 0948 dated 30 July 2002

Composite Expedited Resolution 002hh

Intended effective date: 1 November 2002

Dorothy Y. Beard,
Federal Register Liaison.

[FR Doc. 02-20485 Filed 8-12-02; 8:45 am]

BILLING CODE 4910-62-P